DEPARTMENT OF ENERGY

Federal Energy Regulatory Commission

Notice of Commission Staff Attendance

The Federal Energy Regulatory Commission hereby gives notice that members of the Commission's staff may attend the following meetings related to the transmission planning activities of the PJM Interconnection, L.L.C. (PJM):

PJM Regional Transmission Planning Task Force Conference Call

June 18, 2012, 9:30 a.m.-1 p.m., Local Time.

Combined PJM Markets and Reliability Committee/Members Committee

June 28, 2012, 9:00 a.m.-5 p.m., Local Time.

The above-referenced meeting will be held over conference call or at: The Chase Center on the Riverfront, Wilmington, DE.

The above-referenced meetings are open to stakeholders.

Further information may be found at www.pjm.com.

The discussions at the meeting described above may address matters at issue in the following proceedings:

Docket No. EL05-121, PJM Interconnection, L.L.C.

Docket Nos. ER06-456, ER06-954, ER06-1271, ER07-424, ER06-880, EL07-57, ER07-1186, ER08-229, ER08-1065, ER09-497, and ER10-268, PJM Interconnection, L.L.C.

Docket No. ER10-253 and EL10-14, Primary Power, L.L.C.

Docket No. EL10-52, Central Transmission, LLC v. PJM Interconnection, L.L.C.

Docket No. ER11-4070, RITELine Indiana et. al.

Docket No. ER11-2875 and EL11-20, PJM Interconnection, L.L.C.

Docket No. ER09-1256, Potomac-Appalachian Transmission Highline, L.L.C.

Docket No. ER09-1589, FirstEnergy Service Company

Docket No. ER10-549, PJM Interconnection, L.L.C.

Docket No. EL11-56, FirstEnergy Service Company

Docket No. EL12-38, New York Independent System Operator, Inc.

Docket No. ER11-1844, Midwest Independent Transmission System Operator, Inc.

Docket No. ER11-2140, PJM Interconnection, L.L.C.

Docket No. ER11-2622, PJM Interconnection, L.L.C.

Docket No. ER11-3106, PJM Interconnection, L.L.C.

Docket No. ER11-4379, PJM Interconnection, L.L.C.

Docket No. ER12-445, PJM Interconnection, L.L.C.

Docket No. ER12-773, PJM Interconnection, L.L.C.

Docket No. ER12-718, New York Independent System Operator, Inc.

Docket No. ER12-1177, PJM Interconnection, L.L.C.

Docket No. ER12-1178, PJM Interconnection, L.L.C.

Docket No. ER12-1693, PJM Interconnection, L.L.C.

Docket No. EL12-69, Primary Power LLC v. PJM Interconnection, L.L.C.

Docket No. ER12-1700, PJM Interconnection, L.L.C.

Docket No. ER12-1810, PJM Interconnection, L.L.C.

Docket No. ER12-1901, GenOn Power Midwest, LP

For more information, contact Jonathan Fernandez, Office of Energy Market Regulation, Federal Energy Regulatory Commission at (202) 502-6604 or jonathan.fernandez@ferc.gov.

Dated: June 15, 2012.
Kimberly D. Bose,
Secretary.

[FR Doc. 2012-15250 Filed 6-21-12; 8:45 am]

BILLING CODE 6717-01-P